DEPARTMENT OF ENERGY

Federal Energy Regulatory Commission

Combined Notice of Filings #1

Take notice that the Commission received the following exempt wholesale generator filings:

Docket Numbers: EG14-52-000.

Applicants: Barilla Solar, LLC.

Description: Notice of Self-Certification of Exempt Wholesale Generator Status Barilla Solar, LLC.

Filed Date: 5/8/14.

Accession Number: 20140508-5148.

Comments Due: 5 p.m. e.t. 5/29/14.

Docket Numbers: EG14-53-000.

Applicants: Rising Tree Wind Farm LLC.

Description: Notice of Self-Certification of Exempt Wholesale Generator Status of Rising Tree Wind Farm LLC.

Filed Date: 5/8/14.

Accession Number: 20140508-5159.

Comments Due: 5 p.m. e.t. 5/29/14.

Docket Numbers: EG14-54-000.

Applicants: Rising Tree Wind Farm II LLC.

Description: Notice of Self-Certification of Exempt Wholesale Generator Status of Rising Tree Wind Farm II LLC.

Filed Date: 5/8/14.

Accession Number: 20140508-5161.

Comments Due: 5 p.m. e.t. 5/29/14.

Docket Numbers: EG14-55-000.

Applicants: Headwaters Wind Farm LLC.

Description: Notice of Self-Certification of Exempt Wholesale Generator Status of Headwaters Wind Farm LLC.

Filed Date: 5/8/14.

Accession Number: 20140508-5163.

Comments Due: 5 p.m. e.t. 5/29/14.

Take notice that the Commission received the following electric rate filings:

Docket Numbers: ER13-1292-002.

Applicants: Southwest Power Pool, Inc.

Description: Order No. 764 Compliance—Scheduling to be effective 3/1/2014.

Filed Date: 5/9/14.

Accession Number: 20140509-5187.

Comments Due: 5 p.m. e.t. 5/30/14.

Docket Numbers: ER14-1553-001.

Applicants: PJM Interconnection, L.L.C.

Description: Errata to First Revised Service Agreement No. 3159; Queue No. W2-073 to be effective 2/21/2014.

Filed Date: 5/9/14.

Accession Number: 20140509-5171.

Comments Due: 5 p.m. e.t. 5/30/14.

Docket Numbers: ER14-1928-000.

Applicants: Southwest Power Pool, Inc.

Description: Southwest Power Pool, Inc. submits tariff filing per 35.13(a)(2)(iii: 1518R6 Arkansas Electric Cooperative Corp NITSA NOA to be effective 5/1/2014.

Filed Date: 5/9/14.

Accession Number: 20140509-5046.

Comments Due: 5 p.m. e.t. 5/30/14.

Docket Numbers: ER14-1929-000.

Applicants: DeGreeff DP, LLC.

Description: Revised Market-Based Rate Tariff to be effective 5/10/2014.

Filed Date: 5/9/14.

Accession Number: 20140509-5061.

Comments Due: 5 p.m. e.t. 5/30/14.

Docket Numbers: ER14-1930-000.

Applicants: DeGreeffpa, LLC.

Description: Revised Market-Based Rate Tariff to be effective 5/10/2014.

Filed Date: 5/9/14.

Accession Number: 20140509-5062.

Comments Due: 5 p.m. e.t. 5/30/14.

Docket Numbers: ER14-1931-000.

Applicants: Elkhorn Ridge Wind, LLC.

Description: Revised Market-Based Rate Tariff to be effective 5/10/2014.

Filed Date: 5/9/14.

Accession Number: 20140509-5064.

Comments Due: 5 p.m. e.t. 5/30/14.

Docket Numbers: ER14-1932-000.

Applicants: GenOn Mid-Atlantic, LLC.

Description: Revised Market-Based Rate Tariff to be effective 5/10/2014.

Filed Date: 5/9/14.

Accession Number: 20140509-5065.

Comments Due: 5 p.m. e.t. 5/30/14.

Docket Numbers: ER14-1933-000.

Applicants: Headwaters Wind Farm LLC.

Description: MBR Application to be effective 7/9/2014.

Filed Date: 5/9/14.

Accession Number: 20140509-5093.

Comments Due: 5 p.m. e.t. 5/30/14.

Docket Numbers: ER14-1934-000.

Applicants: Rising Tree Wind Farm LLC.

Description: MBR Application to be effective 7/9/2014.

Filed Date: 5/9/14.

Accession Number: 20140509-5094.

Comments Due: 5 p.m. e.t. 5/30/14.

Docket Numbers: ER14-1935-000.

Applicants: Rising Tree Wind Farm II LLC.

Description: MBR Application to be effective 7/9/2014.

Filed Date: 5/9/14.

Accession Number: 20140509-5095.

Comments Due: 5 p.m. e.t. 5/30/14.

Docket Numbers: ER14-1936-000.

Applicants: K Road Modesto Solar LLC.

Description: K Road Modesto Solar LLC Notice of Change in Status to be effective 5/10/2014.

Filed Date: 5/9/14.

Accession Number: 20140509-5134.

Comments Due: 5 p.m. e.t. 5/30/14.

Docket Numbers: ER14-1937-000.

Applicants: Southwest Power Pool, Inc.

Description: Arkansas Electric Cooperative Corp NITSA NOA to be effective 6/1/2014.

Filed Date: 5/9/14.

Accession Number: 20140509-5167.

Comments Due: 5 p.m. e.t. 5/30/14.

Docket Numbers: ER14-1938-000.

Applicants: Southwest Power Pool, Inc.

Description: 1518R7 Arkansas Electric Cooperative Corp NITSA NOA to be effective 6/1/2014.

Filed Date: 5/9/14.

Accession Number: 20140509-5178.

Comments Due: 5 p.m. e.t. 5/30/14.

Take notice that the Commission received the following electric securities filings:

Docket Numbers: ES14-32-000.

Applicants: American Transmission Company LLC,ATC Management Inc.

Description: Amendment to April 1, 2014 Application under Section 204 of the Federal Power Act for Authorization to Issue Securities of American Transmission Company LLC, et al.

Filed Date: 5/9/14.

Accession Number: 20140509-5157.

Comments Due: 5 p.m. e.t. 5/19/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 9, 2014.
Kimberly D. Bose,
Secretary.

[FR Doc. 2014-11464 Filed 5-16-14; 8:45 am]

BILLING CODE 6717-01-P